DEPARTMENT OF THE INTERIOR

Bureau of Land Management

[LLCAD08000-L14300000-ET0000; CACA 51737]

Notice of Proposed Withdrawal and Opportunity for Public Meeting; California

AGENCY: Bureau of Land Management, Interior.

ACTION: Notice.

SUMMARY: The Assistant Secretary of the Interior for Land and Minerals Management proposes to withdraw, on behalf of the Bureau of Land Management (BLM), approximately 507 acres of reserved Federal minerals from the United States mining laws including the mineral and geothermal leasing and mineral materials laws, and 332,421 acres of Federal lands from settlement, sale, location, and entry under the public land laws, including the United States mining laws, and the mineral and geothermal and mineral materials laws for a period of 5 years. The withdrawal would protect the lands and preserve the status quo of the lands and mineral estate included in the proposed training land acquisition/airspace establishment project of the United States Marine Corps (USMC) Air Ground Combat Center (MCAGCC), Twenty-nine Palms, California, pending the processing of an application for withdrawal for military purposes under the Engle Act. The application also includes 43,315 acres of non-Federal lands located within the proposed boundaries of the proposed withdrawal areas, and in the event that they return to Federal ownership in the future, the lands would be subject to the terms and conditions described below. The Federal and non-Federal lands are located in San Bernardino County.

DATES: Comments must be received on or before December 13, 2010.

ADDRESSES: Comments should be sent to Ms. Roxie Trost, Barstow Office Field Manager, Bureau of Land Management, 2601 Barstow Road, Barstow, California 92311.

FOR FURTHER INFORMATION CONTACT: Ms. Roxie Trost, Barstow Office Field Manager, Bureau of Land Management, 760-252-6000 or Mr. Rusty Lee, Needles Office Field Manager, Bureau of Land Management, at 760-326-7000.

SUPPLEMENTARY INFORMATION: The Assistant Secretary for Land and Minerals Management proposes to withdraw the following described Federal lands and mineral estate from settlement, sale, location, and entry under the public land laws, including the United States mining laws, and from the operation of the mineral and geothermal leasing laws and the Materials Act of 1947, subject to valid existing rights, to protect the lands and preserve the status quo pending action on an application for withdrawal of the lands for military purposes under the Engle Act:

1. Federally Owned Surface and Mineral Estate

San Bernardino Meridian

Western Acquisition Area

T. 4 N., R. 2 E.,

Sec. 1.

T. 5 N., R. 2 E.,

Secs. 1 and 2;

Secs. 11 to 14, inclusive, and Secs. 23 to 26, inclusive;

Sec. 35.

T. 6 N., R. 2 E.,

Sec. 13;

Secs. 23 to 26, inclusive;

Sec. 35.

T. 4 N., R. 3 E.,

Sec. 1, lots 1 and 2 of NE¼, lots 1 and 2 of NW¼, NW¼;SW¼, and SE¼;

Sec. 2;

Sec. 3, E½ of lot 1 of NE¼, lot 2 of NE¼, lot 2 of NW¼, and S½S½;

Sec. 4, lots 1 and 2 of NE¼, lots 1 and 2 of NW¼;, SW¼, and S½SE½;

Secs 5 and 6;

Sec. 7, E½;

Secs. 8 and 9;

Sec. 10, N½N½;

Sec. 12, N½ and SE¼.

T. 5 N., R. 3 E., partly unsurveyed.

Secs. 2 to 35, inclusive;

Sec. 36, SW¼.

T. 4 N., R. 4 E.,

Secs. 1 to 15, inclusive;

Sec. 17;

Sec. 18, N;½

Sec. 20, N½;

Secs. 21 to 27, inclusive;

Sec. 28, N½.

T. 5 N., R. 4 E., partly unsurveyed.

Secs. 2 to 11, inclusive;

Sec. 12, all except for Mineral Survey No. 6336;

Sec. 13, E½, E½E½NW¼, E½SW¼, and E½W½SW¼;

Secs. 14, 15, and 16;

Sec. 17, NW¼ and S½;

Secs. 18 to 24, inclusive;

Sec. 25, N½, SW¼, and W½SE¼;

Sec. 26, lots 1 to 4, inclusive, W½, and SE¼;

Secs. 27 to 36, inclusive.

T. 6 N., R. 4 E.,

Secs. 1 to 15, inclusive, and Secs. 17 to 24, inclusive;

Sec. 26;

Secs. 27 and 28, all except for Mineral Survey Nos. 3000 and 3980;

Secs. 29 to 35, inclusive;

Sec. 36, N½ and SW¼.

T. 3 N., R. 5 E.,

Secs. 1, 2, and 3;

Sec. 4, lots 1 to 12, inclusive;

Secs. 5 and 6;

Sec. 9, lots 1 and 2;

Sec. 10, lots 1 to 7, inclusive;

Sec. 11;

Sec. 12, lots 1 to 12, inclusive.

T. 4 N., R. 5 E., partly unsurveyed.

Secs. 2 to 35, inclusive.

T. 5 N., R. 5 E.,

Secs. 4 and 5;

Sec. 6, lots 1 to 10, inclusive, SE¼NW¼, E½SW¼, N½SE¼, and SW¼SE¼;

Sec. 7, lots 1 to 4, inclusive, lots 6 and 7, S½NE¼, SE¼NW¼, E½SW¼, and SE¼;

Sec. 8;

Secs. 14, 15, 18, 19, 20, 22, 23, 26, 27, 28, 30, 31, 32, 34, and 35.

T. 6 N., R. 5 E.,

Secs. 17 to 20, inclusive, and Secs. 29 to 32, inclusive.

Southern Acquisition Area

T. 2 N., R. 9 E.,

Sec. 25;

Sec. 26, all except for N½NW¼SW¼SW¼;

Sec. 27, E½ except for W½SE¼SE¼SE¼;

Sec. 34, S½NE¼NE¼NE¼, SE¼NE¼NE¼, W½NE¼NE¼, NW¼NE¼, and E½NW¼;

Sec. 35, N½ except for N½NE¼NE¼NE¼ and S½SW¼NW¼NE¼.

T. 2 N., R. 10 E.,

Secs. 2 to 11, inclusive;

Sec. 14, that portion lying north and west of the boundary of the Cleghorn Lakes Wilderness Area;

Sec. 15 and Secs. 17 to 22, inclusive;

Sec. 23, that portion lying west of the boundary of the Cleghorn Lakes Wilderness Area;

Sec. 26, that portion lying west and south of the boundary of the Cleghorn Lakes Wilderness Area;

Secs. 27 to 35, inclusive.

Eastern Acquisition Area

T. 4 N., R. 11 E.,

Secs. 1, 2, 11, 12, and 14.

T. 5 N., R. 11 E.,

Sec. 35.

T. 3 N., R. 12 E.,

Secs. 1, 2, and 3;

Secs. 10 to 15, inclusive;

Secs. 22, 23, and 24;

Sec. 25, that portion lying west of the boundary of the Sheephole Valley Wilderness Area;

Secs. 26 and 27;

Sec. 34, that portion lying north and east of the boundary of Cleghorn Lakes Wilderness Area;

Sec. 35.

T. 4 N., R. 12 E.,

Secs. 1 to 8, inclusive;

Secs. 10, 11, 12, 14, and 15;

Sec. 18, all except for Mineral Survey No. 5802;

Sec. 19, N½ except for Mineral Survey Nos. 5802 and 5805;

Sec. 21, E½;

Secs. 23 to 27, inclusive;

Sec. 28, E½;

Secs. 34 and 35.

T. 5 N., R. 12 E.,

Secs. 19 and 20, all except the lands conveyed by Patent No. 1000678;

Secs. 21 to 27, inclusive;

Sec. 28, N½ and SW¼;

Secs, 29 and 30, all except the lands conveyed by Patent No. 1000678;

Secs. 31 to 35, inclusive.

T. 3 N., R. 13 E.,

Sec. 4, that portion lying west of the Sheephole Valley Wilderness Area;

Secs. 5 and 7;

Secs. 8, 17, 18, and 19, those portions lying west of the Sheephole Valley Wilderness Area.

T. 4 N., R. 13 E.,

Secs. 1 to 4, inclusive, Secs. 6 to 15, inclusive, and Secs. 17 to 22, inclusive;

Secs. 23, 24, and 27, those portions lying northwesterly of the Sheephole Valley Wilderness Area;

Secs. 28 to 32, inclusive;

Secs. 33 and 34, that portion lying northwesterly of the Sheephole Valley Wilderness Area.

T. 5 N., R. 13 E.,

Secs. 13, 19, and 20;

Sec. 22, W½;

Secs. 23 to 28, inclusive, Secs. 30, 31, 32, 34, and 35.

T. 3 N., R. 14 E.,

Secs. 1 and 2;

Secs. 3, 4, and 10, those portions lying east of the Sheephole Valley Wilderness Area;

Secs. 11, 12, and 13;

Secs. 14 and 15, those portions lying east of the Sheephole Valley Wilderness Area.

T. 4 N., R. 14 E.,

Secs. 6, 7, 8, 10, 11, 12, 14, 15, 17, and 18;

Sec. 20, that portion lying northeasterly of the Sheephole Valley Wilderness Area;

Secs. 21 to 24, inclusive;

Sec. 25, that portion lying northwesterly of the Cadiz Dunes Wilderness Area;

Secs. 26, 27, and 28;

Sec. 29, that portion lying northeasterly of the Sheephole Valley Wilderness Area;

Secs. 33, 34, and 35.

T. 5 N., R. 14 E.,

Secs. 30 and 31.

T. 4 N, R. 15 E.,

Secs. 1 to 4, inclusive;

Sec. 5, all except for railroad rights-of-way;

Secs. 6, 7 and 8;

Sec. 9, all except for railroad rights-of-way;

Secs. 10 to 15, inclusive, and Secs. 18 to 21, inclusive;

Secs. 22 to 25, those portions lying northwesterly or northeasterly of the Cadiz Dunes Wilderness Area, inclusive;

Secs. 28 to 30, those portions lying northwesterly or northeasterly of the Cadiz Dunes Wilderness Area, inclusive;

Sec. 32, that portion lying northeasterly of the Cadiz Dunes Wilderness Area.

T. 5 N., R. 15 E.,

Secs. 10 to 15, inclusive, and Secs. 19 to 35, inclusive.

T. 3 N., R. 16 E.,

Sec. 3, that portion lying northeasterly of the pipeline authorized by CACA 14013 and lying northwesterly of the Old Woman Mountains Wilderness Area.

T. 4 N., R. 16 E.,

Secs. 4 and 5, those portions lying southwesterly of the Old Woman Mountains Wilderness Area;

Secs. 6, 7 and 8;

Sec. 9, that portion lying southwesterly of the Old Woman Mountains Wilderness Area;

Sec. 16, that portion lying southwesterly of the Old Woman Mountains Wilderness Area;

Secs. 17 to 20, inclusive;

Secs. 21 and 22, those portions lying southwesterly of the Old Woman Mountains Wilderness Area;

Secs. 27, that portion lying southwesterly of the Old Woman Mountains Wilderness Area;

Sec. 28;

Sec. 29, all except for that portion in railroad right-of-way containing 17 acres;

Secs. 30, 31, and 32, those portions lying northeasterly of the Cadiz Dunes Wilderness Area;

Sec. 33, that portion lying northeasterly of the Cadiz Dunes Wilderness Area except for that portion contained in railroad right-of-way containing 14.55 acres;

Sec. 34, that portion lying southwesterly of the Old Woman Mountains Wilderness Area.

T. 5 N., R. 16 E.,

Secs. 6 and 7, those portions lying westerly of the Old Woman Mountains Wilderness Area;

Secs. 18, 19, and 20, those portions lying westerly of the Old Woman Mountains Wilderness Area;

Secs. 30 and 31;

Sec. 32, that portion lying westerly of the Old Woman Mountains Wilderness Area.

The areas described aggregate 332,421 acres, more or less in San Bernardino County.

2. Non-Federal Surface Estate and Federal Mineral Estate

San Bernardino Meridian

Southern Acquisition Area

T. 2 N., R. 9 E.,

Sec. 26, N½NW¼SW¼SW¼;

Sec. 27, W½SE¼SE¼SE¼;

Sec. 35, N½NE¼NE¼NE¼ and S½SW¼NW¼NE¼.

Eastern Acquisition Area

T. 5 N., R. 12 E.,

Sec. 5, lot 1 of NE¼, W½ of lot 1 of NW¼, lots 5 and 6 inclusive, SE¼NW¼, and S½.

The areas described aggregate 507 acres, more or less in San Bernardino County.

3. Non-Federal Lands

The following described lands are located within the boundaries of the proposed withdrawal areas. In the event the United States subsequently acquires these lands, they would be subject to the terms and conditions of the withdrawal as described above. The Federal interest would be subject to the terms and conditions of the withdrawal as described above:

(a). Non-Federal Surface and Mineral Estate:

San Bernardino Meridian

Western Acquisition Area

T. 5 N., R. 2 E.,

Sec. 36.

T. 6 N., R. 2 E.,

Sec. 36.

T. 5 N., R. 3 E.,

Sec. 1;

Sec. 36, N½ and SE¼.

T. 6 N., R. 3 E.,

Sec. 1, S½ of lot 4;

Sec. 4, that land described by metes and bounds in Patent No. 04-67-0117 and containing 180.445 acres, more or less;

Secs. 10 to 11, that land described by metes and bounds in Patent No. 04-68-0173 and containing 20.104 acres, more or less;

Sec. 25;

Sec. 31, that land described by metes and bounds in Patent No. 994392 and containing 41.322 acres, more or less;

Sec. 36.

T. 4 N., R. 4 E.,

Sec. 16, N½ and SE¼.

T. 5 N., R. 4 E.,

Sec. 1;

Sec. 12, E½NE¼ and N½SE¼;

Sec. 13, W½NW¼, west 20 rods of the E½NW¼, and W½W½SW¼;

Sec. 17, NE¼;

Sec. 25, lots 1 to 8, inclusive, and E½SE¼.

T. 6 N., R. 4 E.,

Sec. 16, and 25;

Secs. 27 to 28, that land described by metes and bounds in Patent Nos. 24783, 38438, and 38980, and containing 151.250 acres, more or less;

Sec. 36, SE¼.

T. 3 N., R. 5 E.,

Sec. 4, W½NW¼NE¼SW¼, NW¼NE¼SW¼, W½SE¼NE¼SW¼, E½NE¼SW¼SW¼, W½NE¼SW¼SW¼, E½SW¼SW¼SW¼, W½SE¼SW¼SW¼, and W½SE¼SE¼SW¼;

T. 4 N., R. 5 E.,

Secs. 1 and 36.

T. 5 N., R. 5 E.,

Sec. 6, SE¼SE¼;

Sec. 7, lot 5;

Secs. 9, 17, 21, 29, and 33.

Southern Acquisition Area

T. 2 N., R. 9 E.,

Sec. 26, N½NW¼SW¼SW¼;

Sec. 27, W½SE¼SE¼SE¼.

Eastern Acquisition Area

T. 4 N., R. 11 E.,

Sec. 13.

T. 5 N., R. 11 E.,

Sec. 36.

T. 4 N., R. 12 E.,

Secs. 9, 13, 16, and 17;

Secs. 18 to 19, that land described by metes and bounds in Patent Nos. 973412 and 968382, and containing 82.310 acres, more or less;

Sec. 22, and 36.

T. 5 N., R. 12 E.,

Secs. 19, 20, 29, and 30, all the lands conveyed by Patent No. 1000678, containing 1,342.40 acres, more or less;

Sec. 16;

Sec. 28, SE¼;

Sec. 36.

T. 4 N., R. 13 E.,

Sec. 5 and 16;

T. 5 N., R. 13 E.,

Sec. 21;

Sec. 22, E½;

Sec. 29 and 33;

Sec. 36, SW¼.

T. 3 N., R. 14 E.,

Sec. 36, that portion lying east of the Sheephole Valley Wilderness Area.

T. 4 N., R. 14 E.,

Secs. 1 to 5, inclusive, secs. 9, 13, and 16.

T. 5 N., R. 14 E.,

Secs. 19 to 29, inclusive, and secs. 32 to 36, inclusive.

T. 4 N., R. 15 E.,

Secs. 16 to 17, inclusive;

Sec. 33, that portion lying northwesterly of the Sheephole Valley Wilderness Area.

T. 4 N., R. 16 E.,

Sec. 29, that portion contained in railroad right-of-way containing 17 acres;

Sec. 33, that portion contained in railroad right-of-way containing 14.55 acres.

T. 5 N., R. 16 E.,

Sec. 29, that portion lying southwesterly of the Old Woman Mountains Wilderness Area.

The areas described aggregate 39,570 acres, more or less in San Bernardino County.

(b). State of California owned surface and mineral estate:

San Bernardino Meridian

Western Acquisition Area

T. 4 N., R. 3 E.,

Sec. 1, NE¼SW¼ and S½SW¼;

Sec. 3, SW¼NE¼, S½NW¼, and N½S½;

Sec. 4, N½SE¼.

T. 6 N., R. 3 E.,

Sec. 16.

T. 4 N., R. 4 E.,

Sec. 16, SW¼;

Sec. 19, E½E½;

Sec. 20, S½;

Sec. 28, S½;

Sec. 29, E½.

T. 5 N., R. 5 E.,

Sec. 16.

Southern Acquisition Area

T. 2 N., R. 10 E.,

Sec. 16.

Eastern Acquisition Area

T. 5 N., R. 13 E.,

Sec. 36, N½ and SE¼.

The areas described aggregate 3,745 acres, more or less in San Bernardino County.

The purpose of the proposed withdrawal is to protect and preserved the status quo of the lands pending action on an application for withdrawal for military purposes under the Engle Act. Currently, the lands are not being used for military training purposes.

The use of a right-of-way or cooperative agreement would not prohibit new mineral location.

The proposed withdrawal would not require water.

There are no suitable alternative sites. The USMC analyzed lands elsewhere in the United States and concluded that the lands located adjacent to MCAGCC were the best site for the proposed training.

On or before December 13, 2010, all persons who wish to submit comments, suggestions, or objections in connection with the proposed withdrawal may present their views in writing to the BLM, Barstow Field Office Manager at the address indicated above.

Comments, including names and street addresses of respondents, will be available for public review at the BLM Barstow Field Office at the address above during regular business hours. Individual respondents may request confidentiality. Before including your address, phone number, e-mail address, or other personal identifying information in your comment, be advised that your entire comment—including your personal identifying information—may be made publicly available at any time. While you can ask us in your comment to withhold from public review your personal identifying information, we cannot guarantee that we will be able to do so.

Notice is hereby given that a public meeting will be afforded in connection with the proposed withdrawal. A notice of the time and place of the public meeting will be published in the Federal Register and a local newspaper at least 30 days before the scheduled date of the meeting.

This withdrawal proposal will be processed in accordance with the regulations set forth in 43 CFR Part 2300.

For a period of 2 years from the date of publication of this notice in the Federal Register, the lands will be segregated from settlement, sale, location and entry under the public land laws, including the United States mining laws, and from the operation of the mineral and geothermal leasing laws and the Materials Act of 1947 unless the application is denied or canceled or the withdrawal is approved prior to that date.

Licenses, permits, cooperative agreement, or discretionary land use authorizations of a temporary nature which will not significantly impact the values to be protected by the withdrawal may be allowed with the approval of the authorized officer of BLM during the segregative period.

Authority: 43 CFR 2310.3-1(a), (b)(1) and (2).

Karla D. Norris,
Associate Deputy State Director, CA-930.

[FR Doc. 2010-22817 Filed 9-13-10; 8:45 am]

BILLING CODE 3810-FF-P